EXPORT-IMPORT BANK OF THE UNITED STATES

[Public Notice 2013-3002]

Agency Information Collection Activities: Comment Request

AGENCY: Export-Import Bank of the United States.

ACTION: Submission for OMB review and comments request.

Form Title: EIB 10-04 Notice of Claim and Proof of Loss, Working Capital Guarantee.

SUMMARY: The Export-Import Bank of the United States (Ex-Im Bank), as part of its continuing effort to reduce paperwork and respondent burden, invites the general public and other Federal Agencies to comment on the proposed information collection, as required by the Paperwork Reduction Act of 1995.

By neutralizing the effect of export credit support offered by foreign governments and by absorbing credit risks that the private sector will not accept, Ex-Im Bank enables U.S. exporters to compete fairly in foreign markets on the basis of price and product. Under the Working Capital Guarantee Program, Ex-Im Bank provides repayment guarantees to lenders on secured, short-term working capital loans made to qualified exporters. The guarantee may be approved for a single loan or a revolving line of credit. In the event that a borrower defaults on a transaction guaranteed by Ex-Im Bank the guaranteed lender may seek payment by the submission of a claim.

This collection of information is necessary, pursuant to 12 USC Sec. 635 (a) (1), to determine eligibility of the export sales for insurance coverage. The Report of Premiums Payable for Financial Institutions Only is used to determine the eligibility of the shipment(s) and to calculate the premium due to Ex-Im Bank for its support of the shipment(s) under its insurance program. Export-Import Bank customers will be able to submit this form on paper or electronically.

The Export-Import Bank has made a change to the report to have the insured financial institution provide the industry code (NAICS) associated with each specific export. The insured financial institution already provides a short description of the goods and/or services being exported. This additional piece of information will allow Ex-Im Bank to better track what exports it is covering with its insurance policy.

The information collection tool can be reviewed at: http://www.exim.gov/pub/pending/eib10-04.pdf.

DATES: Comments must be received on or before May 7, 2014 to be assured of consideration.

ADDRESSES: Comments may be submitted electronically on WWW.REGULATIONS.GOV or by mail to Office of Information and Regulatory Affairs, 725 17th Street NW., Washington, DC 20038 Attn: OMB 3048-10-04.

SUPPLEMENTARY INFORMATION: Title and Form Number: EIB 10-04 Notice of Claim and Proof of Loss, Working Capital Guarantee.

OMB Number: 3048-0035.

Type of Review: Regular.

Need and Use: This collection of information is necessary, pursuant to 12 U.S.C. 635(a)(1), to determine if such claim complies with the terms and conditions of the relevant insurance policy.

Affected Public: This form affects entities involved in the export of U.S. goods and services.

Annual Number of Respondents: 20.

Estimated Time per Respondent: 20 minutes.

Annual Burden Hours: 7 hours.

Frequency of Reporting of Use: Monthly.

Government Expenses:

Reviewing time per year: 860 hours.

Average Wages per Hour: $42.50.

Average Cost per Year: $36,550 (time*wages).

Benefits and Overhead: 20%.

Total Government Cost: $43,860.

Bonita Jones,
Agency Clearance Officer, Office of the Chief Information Officer.

[FR Doc. 2014-07682 Filed 4-4-14; 8:45 am]

BILLING CODE 6690-01-P